DEPARTMENT OF ENERGY

Federal Energy Regulatory Commission

[Docket No. RP12-514-000]

Tennessee Gas Pipeline Company, LLC; Notice of Technical Conference

The Commission's January 17, 2013 Order in the above-captioned proceeding ¹ directed that a technical conference be held to address issues raised by Tennessee Gas Pipeline Company, LLC's filing to modify the secondary in-the-path scheduling priority provisions of its FERC Gas Tariff.

¹ Texas Eastern Transmission, LP, 129 FERC ¶ 61,088 (2009).

Take notice that a technical conference will be held on Wednesday, April 10, 2013 at 10:00 a.m., in a room to be designated at the offices of the Federal Energy Regulatory Commission, 888 First Street, NE., Washington, DC 20426.

FERC conferences are accessible under section 508 of the Rehabilitation Act of 1973. For accessibility accommodations please send an email to accessibility@ferc.gov or call toll free (866) 208-3372 (voice) or 202-502-8659 (TTY), or send a fax to 202-208-2106 with the required accommodations.

All interested persons and staff are permitted to attend. For further information please contact David Maranville at (202) 502-6351 or email David.Maranville@ferc.gov.

Dated: March 27, 2013.
Kimberly D. Bose,
Secretary.

[FR Doc. 2013-07677 Filed 4-2-13; 8:45 am]

BILLING CODE 6717-01-P